DEPARTMENT OF COMMERCE

National Oceanic and Atmospheric Administration

RIN 0648-XK41

Atlantic Highly Migratory Species; Meeting of the Atlantic Highly Migratory Species Advisory Panel

AGENCY: National Marine Fisheries Service (NMFS), National Oceanic and Atmospheric Administration (NOAA), Commerce.

ACTION: Notice of public meeting, public hearing, and scoping meetings.

SUMMARY: NMFS will hold a 3-day Atlantic Highly Migratory Species (HMS) Advisory Panel (AP) meeting in September and October 2008. The intent of the meeting is to consider options for the conservation and management of Atlantic HMS. The meeting is open to the public. A public hearing and scoping meetings will be held in conjunction with the AP meeting.

DATES: The AP meeting will be held from 1 p.m. to 6 p.m. on Tuesday, September 30, 2008, from 8:30 a.m. to 6 p.m. on Wednesday, October 1, 2008; and from 8:30 a.m. to 12 noon on Thursday, October 2, 2008. See SUPPLEMENTARY INFORMATION for public hearing and scoping meeting dates, times, and locations.

ADDRESSES: All meetings will be held at the Crowne Plaza Hotel, 8777 Georgia Avenue, Silver Spring, MD 20910.

FOR FURTHER INFORMATION CONTACT: Othel Freeman or Chris Rilling at 301-713-2347.

SUPPLEMENTARY INFORMATION: The Magnuson-Stevens Fishery Conservation and Management Act, 16 U.S.C. 1801 et seq., as amended by the Sustainable Fisheries Act, Public Law 104-297, provided for the establishment of an AP to assist in the collection and evaluation of information relevant to the development of any Fishery Management Plan (FMP) for HMS. NMFS consults with and considers the comments and views of AP members when preparing and implementing FMPs or FMP amendments for Atlantic tunas, swordfish, billfish, and sharks. The AP has previously consulted with NMFS on: the HMS FMP (April 1999), Amendment 1 to the HMS FMP (December 2003), Amendment 1 to the Billfish FMP (April 1999), the Consolidated HMS FMP (October 2006), and Amendments 1 and 2 to the Consolidated HMS FMP (April 2008). The September and October 2008 AP meeting will focus on conservation and management options for Atlantic tunas, swordfish, billfish, and sharks. NMFS is considering several amendments to the 2006 Consolidated HMS FMP, including an amendment to update essential fish habitat, an amendment to rebuild blacknose sharks which are overfished with overfishing occurring, and an amendment to improve permitting and reporting and address other relevant management issues in Caribbean HMS fisheries. As listed in the table below, NMFS will hold a public hearing and scoping meetings to receive comments from the AP and members of the public.

Public Hearing and Scoping Meetings | Date | Location
Public hearing for Essential Fish Habitat Draft Amendment 1 to the Consolidated HMS FMP | September 30, 2008; 3:30-4:30 p.m. | Crowne Plaza Hotel, 8777 Georgia Ave., Silver Spring, MD 20910
Scoping meeting for Small Coastal Shark Draft Amendment 3 to the Consolidated HMS FMP | October 1, 2008; 3:30-4:30 p.m. | Crowne Plaza Hotel, 8777 Georgia Ave., Silver Spring, MD 20910
Scoping meeting for Caribbean Draft Amendment 4 to the Consolidated HMS FMP | October 2, 2008; 8:30-9:30 a.m. | Crowne Plaza Hotel, 8777 Georgia Ave., Silver Spring, MD 20910

Special Accommodations

This meeting is physically accessible to people with disabilities. Requests for sign language interpretation or other auxiliary aids should be directed to Othel Freeman at (301) 713-2347, at least 7 days prior to the meeting.

Dated: September 11, 2008.
James P. Burgess
Acting Director, Office of Sustainable Fisheries, National Marine Fisheries Service.

[FR Doc. E8-21596 Filed 9-15-08; 8:45 am]

BILLING CODE 3510-22-S